DEPARTMENT OF THE TREASURY

Submission for OMB Review; Comment Request

January 22, 2009.

The Department of Treasury will submit the following public information collection requirement(s) to OMB for review and clearance under the Paperwork Reduction Act of 1995, Public Law 104-13 after the date of publication of this notice. Copies of the submission(s) may be obtained by calling the Treasury Bureau Clearance Officer listed. Comments regarding this information collection should be addressed to the OMB reviewer listed and to the Treasury Department Clearance Officer, Department of the Treasury, Room 11020, 1750 Pennsylvania Avenue, NW., Washington, DC 20220.

DATES: Written comments should be received on or before March 2, 2009 to be assured of consideration.

Office of Domestic Finance

OMB Number: 1505-0001.

Type of Review: Extension.

Title: Treasury International Capital Form S, “Purchases and Sales of Long-term Securities by Foreigners”.

Form: S.

Description: Form S is required by law and is designed to collect timely information on international portfolio capital movements, including foreigners' purchases and sales of long-term securities in transactions with U.S. persons. The information will be used in the computation of the U.S. balance of payments accounts and international investment position, as well as in the formulation of U.S. international financial and monetary policies.

Respondents: Businesses or other for-profit institutions.

Estimated Total Reporting Burden: 20,107 hours.

OMB Number: 1505-0199.

Type of Review: Extension.

Title: Treasury International Capital (TIC) Form D: Report of Holdings of, and Transactions in, Financial Derivatives Contracts with Foreign Residents.

Form: D.

Description: Form D is required by law and is designed to collect timely information on International portfolio capital movements, including U.S. residents' holdings of, and transactions in, financial derivatives contracts with foreign residents. The information will be used in the computation of the U.S. balance of payments accounts and international investments position, as well as in the formulation of U.S. International financial and monetary policies.

Respondents: Businesses or other for-profit institutions.

Estimated Total Reporting Burden: 4,200 hours.

Clearance Officer: Dwight Wolkow, Treasury Office of Domestic Finance, RM 5205 MT, 1500 Pennsylvania Avenue, Washington, DC 20220, (202) 622-7448.

OMB Reviewer: OIRA Desk Officer, Office of Management and Budget, Room 10235, New Executive Office Building, Washington, DC 20503, oira_submission@omb.eop.gov.

Robert Dahl,
Treasury PRA Clearance Officer.

[FR Doc. E9-1846 Filed 1-28-09; 8:45 am]

BILLING CODE 4810-25-P